DEPARTMENT OF AGRICULTURE

Forest Service

Bitterroot, Flathead and Lolo National Forests Land and Resource Management Plan Revision

AGENCY: Forest Service, USDA.

ACTION: Notice of Adjustment.

SUMMARY: Bitterroot, Flathead and Lolo National Forests here referred to as the Western Montana Planning Zone in Ravalli, Missoula, Mineral, Sanders, Lake, Flathead, Lincoln, Lewis and Clark, Granite, and Powell Counties, Montana, and Idaho County, Idaho. A Notice of Intent to prepare an environmental impact statement to revise Land and Resource Management Plans was published in the Federal Register of January 20, 2004 (69 FR 2699). The Western Montana Planning Zone is adjusting the forest plan revision process from compliance with the 1982 land and resource management planning regulations to compliance with new regulations published in the Federal Register of January 5, 2005 (70 FR 1062).

Public Involvement: Scheduled meetings and details of other public involvement opportunities will be posted on the Western Montana Planning zone Web site, at http://www.fs.fed.us/rl/wmpz/. To get on the mailing list contact Claudia Narcisco at (406) 329-3795, or e-mail, cnarcisco@fs.fed.us. People currently on the mailing list will remain.

FOR FURTHER INFORMATION CONTACT: Lee Kramer, Interdisciplinary Team Leader, Lolo National Forest, Fort Missoula, Bldg., 24, Missoula, MT 59084, (406) 392-3848 or e-mail, lkramer@fs.fed.us; or see the Web site at http://www.fs.fed.us/rl/wmpz/.

Responsible Officials: David Bull, Supervisor, Bitterroot National Forest, 1801 North 1st St., Hamilton, MT 59840. Catherine Barbouletos, Supervisor, Flathead National Forest, 1935 Third Ave., Kalispell, Mt 59901. Deborah Austin, Supervisor, Lolo National Forest, Building 24, Fort Missoula, Missoula, MT 59804.

SUPPLEMENTARY INFORMATION: A Notice of Intent to prepare an environmental impact statement to revise Land and Resource Management Plans was published in the Federal Register of January 20, 2004 (69 FR 2699). The Western Montana Planning zone is adjusting the forest plan revision process from compliance with the 1982 planning regulations, to compliance with new regulations published in the Federal Register of January 5, 2005 (70 FR 1062).

This adjustment will result in the following:

1. The Responsible Official(s) will be each Forest Supervisor.

2. Each National Forest will establish an Environmental Management System prior to completion of the revised forest plans.

3. The emphasis on public involvement will shift from public comment on a broad range of alternative plans, to iterative public-Forest Service collaboration on a single option to arrive at a broadly supported plan for each Forest.

Public collaboration will begin in late spring of 2005, with each Forest using some combination of the following methods: (1) Posting draft desired conditions and supporting maps on the Web site; (2) open houses; (3) invited presentations; (4) newsletters; and (5) on-going collaborative dialogue in community-based working groups. The initial focal points of the collaborative process will be: (1) Desired conditions; (2) suitability of areas for various purposes; and (3) objectives to help move toward the desired conditions. This phase of collaboration is expected to be completed by fall of 2005.

Time Schedule: The remaining forest plan revision schedule will be approximately as follows:

• Fall 2005: Release proposed forest plans and start 90-day public comment period.

• Summer 2006: Release final forest plans and start 30-day public objection period.

• Fall 2006: Issue final decision and start plan implementation.

The web site provides additional information regarding the decision to transition to the new planning regulations, discussion of plan revision elements already completed before making this transition, and other details.

Dated: May 12, 2005.
David T. Bull,
Supervisor, Bitterroot National Forest.
Dated: May 12, 2005.
Catherine Barbouletos,
Supervisor, Flathead National Forest.
Dated: May 12, 2005.
Deborah L. R. Austin.
Supervisor, Lolo National Forest.

[FR Doc. 05-9980 Filed 5-18-05; 8:45 am]

BILLING CODE 3410-11-M